DEPARTMENT OF TRANSPORTATION

Federal Aviation Administration

Notice of Passenger Facility Charge (PFC) Approvals and Disapprovals

AGENCY: Federal Aviation Administration (FAA), DOT.

ACTION: Monthly Notice of PFC Approvals and Disapprovals.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph (d) of § 158.29. In February 2012,there were six applications approved. Additionally, 11 approved amendments to previously approved applications are listed.

PFC Applications Approved

Public Agency: County and City of Yakima, Washington.

Application Number: 12-14-C-00-YKM.

Application Type: Impose and use a PFC.

PFC Level: $4.50.

Total PFC Revenue Approved in this Decision: $703,801.

Earliest Charge Effective Date: August 1, 2012.

Estimated Charge Expiration Date: February 1, 2014.

Class of Air Carriers Not Required To Collect PFCs:

Air taxi/commercial operators—nonscheduled/on-demand air carriers filing FAA Form 1800-31.

Determination: Approved. Based on information contained in the public agency's application, the FAA has determined that the approved class accounts for less than 1 percent of the total annual enplanements at Yakima Air Terminal—McAllister Field Airport.

Brief Description of Projects Approved for Collection and Use

Snow removal equipment purchase—design.

Terminal apron rehabilitation—design.

Taxiway Alpha and connectors rehabilitation—design.

Snow removal equipment purchase.

Terminal apron rehabilitation.

Taxiway Alpha and connectors rehabilitation.

Acquire runway friction tester (decelerometer).

Acquire miscellaneous equipment.

Environmental mitigation.

Security enhancement.

Decision Date: February 2, 2012.

FOR FURTHER INFORMATION CONTACT: Mary Vargas, Seattle Airports District Office, (425) 227-2660.

Public Agency: City of Modesto, California.

Application Number: 12-08-C-00-MOD.

Application Type: Impose and use a PFC.

PFC Level: $4.50.

Total PFC Revenue Approved in this Decision: $111,806.

Earliest Charge Effective Date: April 1, 2012.

Estimated Charge Expiration Date: December 1, 2012.

Class of Air Carriers Not Required to Collect PFC'S: None.

Brief Description of Projects Approved for Collection and Use

Conduct miscellaneous studies.

Procure Americans with Disabilities Act lift.

Reconstruct northwest apron.

Construct new windsocks.

Construct new perimeter security fence.

Environmental study.

PFC administration costs.

Brief Description of Withdrawn Projects

Apron rehabilitation.

Enhance runway safety area.

Date of Withdrawal: February 9, 2012.

Decision Date: February 10, 2012.

FOR FURTHER INFORMATION CONTACT: Arlene Draper, San Francisco Airports District Office, (650) 827-7602.

Public Agency: City of Columbia, Missouri.

Application Number: 12-03-C-00-COU.

Application Type: Impose and use a PFC.

PFC Level: $4.50.

Total PFC Revenue Approved in this Decision: $2,140,461.

Earliest Charge Effective Date: February 1, 2013.

Estimated Charge Expiration Date: December 1, 2026.

Class of Air Carriers Not Required To Collect PFCs: None.

Brief Description of Projects Approved for Collection and Use

Airport master plan update.

Wildlife management assessment of hazards.

Environmental assessment.

Terminal restroom renovation.

Taxiway A reconstruction.

Snow removal equipment.

Update airport exhibit A property map.

Aircraft rescue and firefighting truck.

PFC audit fees.

Brief Description of Projects Approved for Collection

Expand air carrier auto parking lot.

Wildlife deterrent fence.

Airport land acquisition.

Rehabilitate runway 13/31 and taxiway B.

Extend runway 13/31 and taxiway B.

Re-align Route H and Rangeline Road.

Extend runway 2/20 and navigational aids.

Aircraft rescue and firefighting building expansion.

Decision Date: February 10, 2012.

FOR FURTHER INFORMATION CONTACT: Todd Madison, Central Region Airports Division, (816) 329-2640.

Public Agency: City of Midland, Texas.

Application Number: 12-06-C-00-MAF.

Application Type: Impose and use a PFC.

PFC Level: $4.50.

Total PFC Revenue Approved in this Decision: $1,319,287.

Earliest Charge Effective Date: August 1, 2015.

Estimated Charge Expiration Date: May 1, 2016.

Classes of Air Carriers Not Required to Collect PFCs:

(1) Part 135 air taxi/commercial operators filing FAA Form 1800-31; (2) commuter and small certificated air carriers filing Department of Transportation Form T-100 for nonscheduled operations; and (3) large certificated route air carriers filing Department of Transportation Form T-100 for non-scheduled operations.

Determination: Approved. Based on information contained in the public agency's application, the FAA has determined that each approved class accounts for less than 1 percent of the total annual enplanements at Midland International Airport.

Brief Description of Projects Approved for Collection and Use

Terminal building rehabilitation.

Executive apron reconstruction.

Northwest taxilane and emergency perimeter roadway extension.

Wildlife hazard assessment.

Runways 4/22 and 16U34R rehabilitation design.

Emergency perimeter roadway and gates rehabilitation.

Airport drainage improvements—phase 1.

Entrance road guidance signage rehabilitation.

Airport radio communication system upgrade.

Airfield lighting cable replacement.

Taxiway V apron expansion.

Decision Date: February 13, 2012.

FOR FURTHER INFORMATION CONTACT: Marcelino Sanchez, Texas Airports Development Office, (817) 222-5652.

Public Agency: County of Pitkin, Aspen, Colorado.

Application Number: 12-08-C-00-ASE.

Application Type: Impose and use a PFC.

PFC Level: $4.50.

Total PFC Revenue Approved in this Decision: $3,211,592.

Earliest Charge Effective Date: August 1, 2012.

Estimated Charge Expiration Date: February 1, 2016.

Class of Air Carriers Not Required to Collect PFCs: Nonscheduled/on-demand air carriers filing FAA Form 1800-31.

Determination: Approved. Based on information contained in the public agency's application, the FAA has determined that the approved class accounts for less than 1 percent of the total annual enplanements at Aspen/Pitkin County Airport.

Brief Description of Projects Approved for Collection and Use

Acquire snow removal equipment (plow).

Extend runway 15/33.

Construct connector taxiway.

Construct south deice pad apron.

Improve runway safety area.

PFC application and administration fees.

Decision Date: February 17, 2012.

FOR FURTHER INFORMATION CONTACT: Jesse Lyman, Denver Airports District Office, (303) 342-1262.

Public Agency: City of Klamath Falls, Oregon.

Application Number: 12-03-C-00-LMT.

Application Type: Impose and use a PFC.

PFC Level: $4.50.

Total PFC Revenue Approved in This Decision: $987,785.

Earliest Charge Effective Date: April 1, 2012.

Estimated Charge Expiration Date: October 1, 2023.

Class of Air Carriers Not Required To Collect PFCs: None.

Brief Description of Projects Approved for Collection and Use

Terminal enhancements.

Security enhancements.

Construct north end perimeter road.

Conduct miscellaneous studies.

Rehabilitate runway 14/32.

Rehabilitate runway 7/25.

Environmental mitigation.

Acquire snow removal equipment.

PFC administration costs.

Decision Date: February 27, 2012.

FOR FURTHER INFORMATION CONTACT: Trang Tran, Seattle Airports District Office, (425) 227-1662.

Amendments to PFC Approvals
Amendment No., City, State | Amendment approved date | Original approved net PFC revenue | Amended approved net PFC revenue | Original estimated charge exp. date | Amended estimated charge exp. date
03-06-C-01-ACV; Arcata, CA. | 2/01/12 | $578,450 | $523,597 | 03/01/05 | 03/01/05
05-07-C-01-ACV; Arcata, CA. | 2/02/12 | 392,265 | 336,981 | 10/01/05 | 10/01/05
09-03-C-02-PGV; Greenville, NC. | 2/03/12 | 596,985 | 396,985 | 10/01/11 | 10/01/11
03-02-C-01-MCW; Mason City, IA. | 2/08/12 | 379,500 | 303,061 | 02/01/12 | 02/01/12
08-07-C-01-MOD; Modesto, CA. | 2/10/12 | 395,134 | 337,634 | 12/01/15 | 04/01/12
99-02-C-07-MCI; Kansas City, MO. | 2/14/12 | 7,375,439 | 6,741,254 | 05/01/11 | 04/01/11
09-09-C-02-BUR; Burbank, CA. | 2/16/12 | 21,965,000 | 24,965,000 | 05/01/15 | 09/01/15
09-06-C-01-PUW; Pullman, WA. | 2/17/12 | 255,998 | 271,077 | 05/01/11 | 12/01/10
10-11-C-02-ATL; Atlanta, GA. | 2/21/12 | 422,480,178 | 347,373,302 | 01/01/23 | 07/01/22
94-01-C-04-RIC; Richmond, VA. | 2/23/12 | 11,847,867 | 11,846,842 | 05/01/98 | 05/01/98
01-04-C-04-RIC; Richmond, VA. | 2/23/12 | 3,401,433 | 2,647,868 | 11/01/16 | 114/01/16

Issued in Washington, DC on March 8, 2012.
Joe Hebert,
Manager, Financial Analysis and Passenger Faculty Charge Branch.

[FR Doc. 2012-6315 Filed 3-15-12; 8:45 am]

BILLING CODE 4910-13-M